DEPARTMENT OF TRANSPORTATION

Federal Highway Administration

[Docket No. FHWA-2007-28076]

Agency Information Collection Activities: Notice of Request for Reinstatement of a Previously Approved Collection for Which Approval Has Expired

AGENCY: Federal Highway Administration (FHWA), DOT.

ACTION: Notice of Request for Reinstatement of a previously approved collection for which approval has expired.

SUMMARY: The FHWA invites public comments about our intention to request the Office of Management and Budget's (OMB) approval for reinstatement of a previously approved collection for which approval has expired: It is summarized below under Supplementary Information. We are required to publish this notice in the Federal Register by the Paperwork Reduction Act of 1995.

DATES: Please submit comments by July 10, 2007.

ADDRESSES: You may submit comments identified by DOT DMS Docket Number FHWA-2007-28076 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room 401 on the plaza level of the Nassif Building, 400 Seventh Street, SW., Washington, DC, between 9 a.m. and 5 p.m., Monday through Friday, except Federal holidays.

FOR FURTHER INFORMATION CONTACT: Heather Contrino, 202-366-5060, or Ralph Gillman, 202-366-5042, Office of Highway Policy Information, Federal Highway Administration, Department of Transportation, 400 Seventh Street, SW., Washington, DC 20590. Office hours are from 8 a.m. to 5 p.m., Monday through Friday, except Federal holidays.

SUPPLEMENTARY INFORMATION: Title: National Household Travel Survey.

OMB Control #: 2125-0545.

Background: The collection of passenger travel data is authorized in The Safe, Accountable, Flexible, Efficient, Transportation Equity Act: A Legacy for Users of 2005 (SAFETEA-LU) in Title 49, U.S.C. 301. In addition, Title 23, Section 307 authorizes the DOT to engage in studies to collect data for planning future highway programs.

The 2008 National Household Travel Survey (NHTS) will provide an updated benchmark of travel activity and a measure of the impact of household travel behavior on system performance including safety, accessibility, economic factors, and congestion. This continuity is important in identifying, assessing, and forecasting travel trends.

The many changes in travel and the related social patterns point to the need for a 2008 NHTS. Continuing changes in household structure, commuting levels and patterns, the location of households and workplaces, and increases in the mobility of the older population, as well as issues of air quality and traffic congestion, have all resulted in significant changes in travel in recent years.

Historically, FHWA has had the responsibility for the administration of the NHTS. FHWA coordinates with other agencies within the DOT on information needs and program applications. The Bureau of Transportation Statistics (BTS), National Highway Traffic Safety Administration (NHTSA), and the Federal Transit Administration (FTA) have provided supplemental funding in past NHTS program activities. In addition, several organizations outside DOT rely on the NHTS for transportation information relating to health (Centers for Disease Control), energy consumption (Energy Information Administration), and emergency planning (Department of Homeland Security). The Department of Transportation has a continuing need for current and improved data to determine the nature and extent of present travel needs and to plan for meeting the nation's travel needs of the future. Specifically, data is needed to:

• Examine the availability and use of transportation to various population groups, including those whose mobility has historically been lower than that of the general population, such as the elderly, low-income, people of color, and new immigrants;

• Identify factors affecting the use of private vehicles and other means of transportation as they relate to trip purposes including travel to work, school, shopping, medical care and other personal business, and social and recreational travel;

• Forecast trends in highway transportation in light of projected demographic changes;

• Obtain the public's response to changes in transportation systems and services;

• Evaluate factors relating to the safety of the surface transportation system;

• Provide data for the evaluation of the impacts of various policy initiatives; and

• Provide cost-effective information that supports transportation planning and decision-making by Federal, State, and local governments.

The DOT uses the data to analyze the amount and nature of household travel, the relationship between socio-economic characteristics and travel patterns, and trends in passenger travel. Because demographic information is collected on each person and each household surveyed in the NHTS, the dataset is excellent for describing travel behavior of population groups. The transportation community has seen the influence of changes in travel behavior on the amount and type of travel demand, including the increasing participation of women in the workforce, trip chaining for other purposes as part of the work journey, an increase in single-occupant vehicles, and increased development of the outer suburbs and exurbs, and changes in household structure. NHTS is also critical in assessing emerging travel roles of older populations and how this is changing over time, as the older cohort is more and more composed of those who have grown up driving.

Understanding household travel today means understanding the complexity and variety of travel needs under these changing conditions. As our society addresses air quality and congestion issues, it is vital that the various trends be understood along with their implications for the different segments of the population.

Respondents: Approximately 25,000 households will complete the survey. The survey households will be selected using random digit dialing (RDD). The NHTS is a 2-stage study. In the first stage, households are contacted via computer assisted telephone interviewing (CATI) to collect basic information about the household and its vehicles. During this initial contact, households are recruited to participate in the diary phase (stage 2) of the study. Each household is assigned a specific travel day and asked to record details about each trip taken on that day. The stage 2 trip information is obtained via computer assisted telephone interviewing (CATI).

Frequency: The NHTS has been conducted by the DOT every 5-7 years since 1969. The 2008 NHTS will be conducted during calendar year 2008.

Estimated Average Burden per Response: The estimated burden per household averages 68 minutes, which includes interviewing an average of 2.5 persons per household. The burden per person averages 20 minutes for the interview and another 7 minutes for keeping the diary.

Estimated Total Annual Burden Hours: The estimated total annual burden hours are 28,333.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 23 U.S.C. 307; 49 CFR 1.48.

Issued On: May 4, 2007.
James R. Kabel,
Chief, Management Programs and Analysis Division.

[FR Doc. E7-9064 Filed 5-10-07; 8:45 am]

BILLING CODE 4910-22-P